DEPARTMENT OF DEFENSE

Department of the Navy

Notice of Intent To Prepare an Environmental Impact Statement for the Disposal and Reuse of Surplus Properties at Naval Station Newport, RI and Notice of Public Scoping Meetings

AGENCY: Department of the Navy, DoD.

ACTION: Notice.

SUMMARY: Pursuant to Section 102(2)(c) of the National Environmental Policy Act (NEPA) of 1969, as implemented by the Council on Environmental Quality regulations (40 CFR Parts 1500-1508), the Department of the Navy (DoN) announces its intent to prepare an Environmental Impact Statement (EIS) to evaluate the potential environmental consequences of the disposal and reuse of surplus properties at Naval Station (NAVSTA) Newport, Newport, Rhode Island, per Public Law 101-510, the Defense Base Closure and Realignment (BRAC) Act of 1990, as amended in 2005 (BRAC Law). The surplus properties include: the former Naval Hospital, the former Navy Lodge, Tank Farms 1 and 2, and the Defense Highway/Stringham Road Corridor. Potential impacts associated with reuse of the surplus properties at NAVSTA Newport, including changes in land use and traffic patterns, will be evaluated and will contribute to the alternatives considered.

DATES: The DoN will conduct public scoping meetings in the Town of Middletown and the City of Newport, Newport County, Rhode Island, to receive comments on the environmental concerns that should be addressed in the EIS. Public scoping open houses will be as follows:

1. Open House: Wednesday, November 14, 2012 4:00pm-8:00pm, Joseph H. Gaudet Middle School Cafeteria located at 1113 Aquidneck Avenue, Middletown, Rhode Island.

2. Open House: Thursday, November 15, 2012 1:00pm-5:00pm, Newport Public Library Program Room located at 300 Spring Street, Newport, Rhode Island.

FOR FURTHER INFORMATION CONTACT: Director, BRAC Program Management Office Northeast, Attn: Newport BRAC EIS, 4911 South Broad Street, Building 679, Philadelphia, PA 19112-1303, telephone 215-897-4900, fax 215-897-4902, email: david.drozd@navy.mil.

SUPPLEMENTARY INFORMATION: The BRAC Commission was established by Public Law 101-510, the BRAC Law, to recommend military installations for realignment and closure. Recommendations of the 2005 BRAC Commission were included in a report presented to the President on September 8, 2005. The President approved and forwarded this report to Congress on September 16, 2005, which became effective as public law on November 9, 2005, and must be implemented in accordance with the requirements of the BRAC Law.

As a result of implementation of BRAC Law, on January 5, 2009, certain land and facilities at NAVSTA Newport were declared excess to the needs of the DoN and made available to other Department of Defense components and other Federal agencies. The DoN evaluated all Federal requests and made a decision on property required by the Federal Government. The DoN declared approximately 225 acres of property at NAVSTA Newport as surplus to the needs of the Federal Government on February 9, 2010.

The proposed action for this EIS is the disposal and reuse of surplus property at NAVSTA Newport. Upon completion of the disposal, the surplus property will be redeveloped in a manner consistent with the Aquidneck Island Reuse Planning Authority's (AIRPA) Redevelopment Plan. The EIS will consider the alternatives that are reasonable to accomplish the proposed action. Alternatives to be considered include: (1) Disposal of the surplus property by the DoN and reuse in accordance with the AIRPA Redevelopment Plan; (2) Disposal of the surplus property by the DoN with a high-density reuse scenario; and (3) No Action, in which the DoN would retain ownership in caretaker status and no reuse or redevelopment of the surplus property would occur.

Alternative 1 would allow for the disposal and reuse of surplus property at NAVSTA Newport. Reuse would be conducted in accordance with the AIRPA Redevelopment Plan. The Plan provides a mix of land uses based on existing conditions on the surplus property and in the community, guiding principles for development established by AIRPA, and public participation. It is anticipated that full build-out of the Plan would be implemented over a 20-year period. The Redevelopment Plan calls for the development of the following at each surplus parcel:

• Naval Hospital—This waterfront parcel consists of 7 acres of land and facilities plus 3 acres of submerged land. Existing structures would be demolished prior to redevelopment of the site. Approximately 3.8 acres (54%) of the 7 acres of land-based property would be redeveloped, with a mix of hotel and residential uses in addition to a waterfront park with pedestrian paths and a pier. The remaining 3.2 acres of upland (46%) and 3 acres of submerged land would be maintained as open space and natural areas associated with the waterfront park.

• Navy Lodge—This parcel consists of 3 acres of land with no facilities on the parcel. Approximately 1.8 acres (60%) would be redeveloped with two, one-story retail buildings and associated parking. Approximately 1.2 acres (40%) would be maintained as open space.

• Tank Farms 1 and 2—This parcel consists of 145 acres of land and facilities. Existing structures would be demolished prior to redevelopment of the site. Approximately 31.1 acres (21%) of the overall combined property would be redeveloped with a mix of uses including office space, light industrial, boat storage, multi-modal parking, and a solar array. About 113.9 acres (79%) would remain as passive land use or open space.

• Defense Highway/Stringham Road Corridor—This parcel consists of 67 acres of land, including 4.6 miles of two-lane roads and 15 acres of adjacent open land. The Redevelopment Plan calls for retaining use of the two-lane roads, with the addition of an adjacent multi-use pedestrian pathway in a greenbelt. The remaining land would be used for recreation/open space areas including a shoreline park.

Alternative 2 would also allow for disposal and reuse of the surplus property at NAVSTA Newport. This alternative features a higher density of uses at each parcel and similar to Alternative 1, it is anticipated that full build-out of the high-density scenario would be implemented over a 20-year period. Under Alternative 2, redevelopment at each surplus parcel would include the following:

• Naval Hospital—The residential use proposed under Alternative 1 would be replaced with commercial uses and a conference center would be added to the proposed hotel. The remainder of the site would be developed as described under Alternative 1. This higher density alternative would result in development of approximately 4.1 acres (58%) of the 7-acre land-based portion of the site.

• Navy Lodge—The higher density alternative calls for the development of two, two-story retail buildings and an increase in parking compared with Alternative 1. Alternative 2 would result in development of approximately 2.1 acres (70%) of the overall site.

• Tank Farms 1 and 2—Redevelopment would occur with the same mix of uses as under Alternative 1 however, the amount of office space and light industrial would be increased resulting in development of 34.1 acres (24%) of the overall site.

• Defense Highway/Stringham Road Corridor—The higher density alternative calls for greater expansion of the proposed shoreline park.

Alternative 3 is required by NEPA and is the No Action Alternative. Under this alternative, the property would be retained by the U.S. government in caretaker status. No reuse or redevelopment would occur at the surplus property.

The EIS will address potential direct, indirect, short-term, long-term, and cumulative impacts on the human and natural environments, including potential impacts on topography, geology and soils, water resources, biological resources, air quality, noise, infrastructure and utilities, traffic, cultural resources, land use, socioeconomics, environmental justice, and waste management. Known areas of concern associated with the BRAC action include impacts on cultural resources, impacts on local traffic patterns resulting from reuse scenarios, and the clean-up of installation remediation sites.

The DoN is initiating the scoping process to identify community concerns and issues that should be addressed in the EIS. Agencies and the public are encouraged to provide written comments at scheduled public scoping meetings. Comments should clearly describe specific issues or topics that the EIS should address. Written comments must be postmarked or emailed by midnight December 2, 2012, and should be sent to: Director, BRAC Program Management Office Northeast, Attn: Newport BRAC EIS, 4911 South Broad Street, Building 679, Philadelphia, PA 19112-1303, telephone 215-897-4900, fax 215-897-4902, email: david.drozd@navy.mil.

Requests for special assistance, sign language interpretation for the hearing impaired, language interpreters, or other auxiliary aids for scheduled public scoping meetings must be sent by mail or email by November 5, 2012, to Ms. Katie Dixon, Ecology and Environment, Inc., 368 Pleasant View Drive, Lancaster, NY 14086, telephone 716-684-8060, email: kdixon@ene.com.

Dated: October 25, 2012.
C. K. Chiappetta,
Lieutenant Commander, Office of the Judge Advocate General, U.S. Navy, Federal Register Liaison Officer.

[FR Doc. 2012-26755 Filed 10-30-12; 8:45 am]

BILLING CODE 3810-FF-P